DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-0361.

Comments are invited on: (a) whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Survey of Current and Alumni SAMHSA Fellows of the Minority Fellowship Program (MFP) (OMB No. 0930-0304)—Revision

In 1973, in response to a substantial lack of ethnic and racial minorities in the mental health professions, the Center for Minority Health at the National Institute of Mental Health established the MFP. Since the MFP's transition to SAMHSA in 1992, the program has continued to facilitate the entry of graduate students and psychiatric residents into mental health careers and has increased the number of psychology, psychiatry, nursing, and social work professionals trained to provide mental health and substance abuse services to minority groups. The traditional MFP offers sustained grants to six national behavioral health professional associations: the American Association of Marriage and Family Therapy (AAMFT), American Nurses Association (ANA), American Psychiatric Association (APsychA), American Psychological Association (APA), Council on Social Work Education (CSWE), and National Board for Certified Counselors (NBCC) which administers the program for the NBCC and the Association for Addiction Professionals (NAADAC). A seventh program, offered after the previously approved surveys, is referred to as The Interdisciplinary Minority Fellowship Program and is administered by the American Psychological Association.

This data collection includes two survey instruments, the Survey of Current SAMHSA MFP Fellows and the Survey of Alumni SAMHSA MFP Fellows. The two online surveys (with the option for a hard copy mailed through the U.S. Postal Service) will be used with the following stakeholders in the MFP grant programs:

1. Current SAMHSA MFP Fellows (n=411)

a. Current MFP fellows (doctoral-level fellows) and master's-level fellows currently receiving support during their doctoral-level, master's-level, psychiatric residency, or certificate training programs will be asked about their experiences in the MFP (learning opportunities and mentoring experiences in the program through their participation in professional development and other various activities provided by the grantees), plans for their career beyond the MFP, and suggestions for improvement of their MFP experience.

2. MFP Alumni (n=1,280)

a. MFP Alumni who participated in the MFP during the time the program was administered by SAMHSA will be asked about their previous experiences as fellows in the MFP, their subsequent involvement and leadership in their professions, and ways in which the MFP prepared them for their current positions.

The information gathered by these two surveys will be used to document contributions and impacts of current and former MFP fellows. The current fellows survey includes questions to assess the following measures: background items on training specialty and demographics, practicum and internship experiences, professional development activities (e.g., number of certifications obtained, types of professional development/contributions to the field such as number of presentations or publications), and learning opportunities related to MFP fellows' preparation to provide culturally competent mental and substance use disorder services to underserved populations. The alumni fellows survey includes questions to measure: background items on specialization and demographics, status of degree completion, employment experiences and settings where providing culturally competent mental and substance use disorder services to underserved populations, contributions to the field, application of MFP learning opportunities in current employment experiences, mentoring and other support received during the MFP, satisfaction with their preparation during MFP for their current employment or educational placement, intentions to stay in or leave the behavioral health field, and suggestions for improving the MFP.

This request amends the OMB approval that expired August 31, 2019, by omitting questions that gathered information on number of mentors and total mentored hours; as well as self-reported impacts on current and alumni fellows such as increased knowledge, skills, and aptitude. Both the current and alumni fellows' surveys are revised accordingly. For the alumni survey, the respondent pool has been limited only to those who have completed the MFP within the past five years. Additionally, to further streamline this data collection SAMHSA has also deleted eleven other questions that are not critical to assessing the program's progress. In turn, the following questions have been added to the survey instruments to help better assess the program's progress with meeting stated goals and plan for future cohorts of fellows:

(1) Specialization

Response choices were modified and added to align with position titles in HRSA's annual behavioral workforce survey.

My specialization would best prepare me/prepared me for positions such as those held by (check more than one if applicable):

[ ] Adult psychiatrists

[ ] Child and adolescent psychiatrists

[ ] Psychiatric nurse practitioners

[ ] Physician assistants

[ ] Psychologists

[ ] Social workers

[ ] Marriage and family therapists

[ ] Addictions counselors

[ ] Mental health counselors

[ ] School counselors

[ ] Other: Please specify [text box]

(2) Personal Background

Items and response choices were added or revised to align with how these are asked in federal national data collections (e.g., American Community Survey or NIH's PhenX Toolkit).

The next set of questions will help SAMHSA understand the variation in responses based on characteristics of MFP fellows.

(5) What is your gender?

[ ] Male

[ ] Female

[ ] Non-binary, . . . .

[ ] Two-Spirit

[ ] TF (Transgender Female)

[ ] TM (Transgender Male)/

[ ] Other (please specify): [text box] *

[ ] Prefer not to answer

(6) Are you of Hispanic, Latina/Latino, or Spanish origin? *

[ ] No, not of Hispanic, Latino, or Spanish origin

[ ] Yes

[ ] Mexican, Mexican Am., Chicano

[ ] Puerto Rican

[ ] Cuban

[ ] Another Hispanic, Latino, or Spanish origin—for example, Salvadoran, Dominican, Colombian, Guatemalan, Spaniard, Ecuadorian, etc.) [text box] *

[ ] Prefer not to answer

(7) What is your race? For this survey (as in the U.S. Census), Hispanic origins are not races. Check all that apply.*

[ ] White—for example, German, Irish, English, Italian, Lebanese, Egyptian, etc.

[ ] Black, African American, or African—for example, African American, Jamaican, Haitian, Nigerian, Ethiopian, Somali, etc.

[ ] American Indian or Alaska Native—Print name of enrolled or principal tribe(s), for example, Navajo Nation, Blackfeet Tribe, Mayan, Aztec, Native Village of Barrow Inupiat Traditional Government, Nome Eskimo Community, etc.

[ ] Asian or Asian American

[ ] Chinese

[ ] Filipino

[ ] Asian Indian

[ ] Vietnamese

[ ] Korean

[ ] Japanese

[ ] Other Asian—for example, Pakistani, Cambodian, Hmong, etc.

[ ] Native Hawaiian, Samoan, Chamorro, Other Pacific Islander—for example, Tongan, Fijian, Marshallese, etc.

[ ] Some other race—specify race or origin:

[ ] Prefer not to answer

The following items will help us understand the immigrant status of our trainees and the extent to which we are diversifying our trainees to respond to the growing needs of immigrant families.

(8) Are you from an immigrant family?

[ ] NO

[ ] YES

[ ] Prefer not to answer

a. Was either of your parents born outside of the U.S.?

[ ] YES, one parent

[ ] YES, both parents

[ ] NO, neither parent

[ ] Prefer not to answer

b. Was at least one of your grandparents born outside of the U.S.?

[ ] YES

[ ] NO

[ ] Prefer not to answer

c. Were you born outside of the U.S.?

[ ] YES

[ ] NO

[ ] Prefer not to answer

(9) List any language(s), other than English, in which you have at least minimum professional speaking proficiency (i.e., can participate effectively in most formal and informal conversations on practical and professional topics). Check all that apply.*

[ ] English only

[ ] African-other than Amharic (please specify below)

[ ] Amharic

[ ] Chinese-Mandarin

[ ] Chinese-Other

[ ] French

[ ] German

[ ] Hindi

[ ] Japanese

[ ] Korean

[ ] Kreyol

[ ] Portuguese

[ ] Russian

[ ] Spanish

[ ] Other language (please specify): [text box]

[ ] Prefer not to answer

(10) Do you have a disability or require accommodations to perform essential professional functions? *

[ ] Yes

[ ] No

[ ] Prefer not to answer

(3) Learning Opportunities

Added items or response choices (e.g., use of telehealth) to reflect changes in behavioral practices and service delivery due to COVID-19 restrictions.

20. During the past MFP year, as part of your program, please check the types of learning opportunities you had for each of the following topics.

(a) Working with individuals from racially and ethnically diverse backgrounds? (Please select all that apply.)

[ ] Opportunities to learn via telehealth

[ ] Observation of clinical encounters in-person

[ ] Observation of clinical encounters via telehealth

[ ] Clinical experience with the population(s)

[ ] Education about the CLAS standards and their impact on the delivery of care

[ ] Instruction in cultural humility/competence and its impact on the delivery of care

[ ] Distance learning (virtual learning, web-based learning)

[ ] Supervision of the clinical experience with the population(s)

(4) Intentions to Stay/Leave Behavioral Health Field (Alumni Only)

Additional items were added to better understand how the stress and burnout being witnessed in the health care workforce generally and behavioral health workforce in particular (due to COVID-19 pandemic) may have impacted alumni fellows' intentions to stay in or leave the field.

The following questions ask about your intentions to stay in the mental or behavioral health field. Using the scales provided, indicate how often you think about leaving and the likelihood that you would leave.

(31) Do you consider your current job/practice/training as in the mental and behavioral health field?

_ No: Which field are you in? TEXT BOX (then skip to Q34)

_ Yes (ANSWER INTENTIONS 1 and 2 below)

31. Intentions—1 | 1—Never | 2—A few times a year or less | 3—Once a month or less | 4—A few times a month | 5—Once a week | 6—A few times a week | 7—Every day
a. How often do you think about leaving your job/training program? | ☐ | ☐ | ☐ | ☐ | ☐ | ☐ | ☐
b. How often do you think about leaving for another job/training program in the field? | ☐ | ☐ | ☐ | ☐ | ☐ | ☐ | ☐

32. Intentions—2 | 1— Extremely unlikely | 2—Very unlikely | 3—Somewhat unlikely | 4—Neutral/Unsure | 5—Somewhat likely | 6—Very likely | 7—Extremely likely
a. How likely is it that you will search for a job in the same primary role—e.g., clinical care, practice, teaching, research, prevention, administration/policy development? | ☐ | ☐ | ☐ | ☐ | ☐ | ☐ | ☐
b. How likely is it that you will actually leave the mental and behavioral health field next year? | ☐ | ☐ | ☐ | ☐ | ☐ | ☐ | ☐

(33) If you are considering leaving the mental and behavioral health field, what is/are the primary driver(s)?

(34) What changes are needed that would convince you to stay? [Limit characters to 450]

Burden Estimate

The total annual burden estimate for conducting the surveys is shown below:

Survey name | Number of respondents | Responses per respondent | Total number of responses | Hours per response | Total burden hours
SAMHSA MFP Current Fellows Survey | 411 | 1 | 411 | 0.42 | 173
SAMHSA MFP Alumni Survey | 1,280 | 1 | 1,280 | 0.42 | 538
Totals | ᵃ 1,691 |  | 1,691 |  | 711
ᵃ This is an unduplicated count of total respondents.

Send comments to Carlos Graham, SAMHSA Reports Clearance Officer, Room 15-E57, 5600 Fishers Lane, Rockville, MD 20857 OR email a copy at carlos.graham@samhsa.hhs.gov. Written comments should be received by December 22, 2023.

Alicia Broadus,
Public Health Advisor

[FR Doc. 2023-23319 Filed 10-20-23; 8:45 am]

BILLING CODE 4162-20-P